DEPARTMENT OF COMMERCE

National Telecommunications and Information Administration

[Docket Number 980212036-0235-06]

RIN 0660-AA11

Management and Administration of the .us Domain Space

AGENCY: National Telecommunications and Information Administration, U.S. Department of Commerce.

ACTION: Notice, Request for Public Comment.

SUMMARY: The National Telecommunications and Information Administration (“NTIA”), Department of Commerce, requests comments on a draft statement of work and draft methods and procedure section (the “Draft SOW”), which is expected to be incorporated in a request for proposals ¹ for management and administration of the .us domain space. The Draft SOW is set forth in Appendix A of this document. The public is invited to comment on any aspect of the Draft SOW including, but not limited to, the specific questions set forth below. NTIA expects to revise the Draft SOW based on public comments received. Further, NTIA may solicit additional comments for this or other elements of its request for proposals, proceed with alternative procurement mechanisms, or choose to take other actions necessary to secure appropriate management and administration of the .us domain space.

¹ The request for proposal, if issued, will be consistent with all pertinent U.S. Government procurement regulations, and will be posted in the Commerce Business Daily and on the National Telecommunications and Information Administration's homepage at <www.ntia.doc.gov>.

DATES: Interested parties are invited to submit comments on the Draft SOW no later than October 6, 2000.

SUBMISSION OF DOCUMENTS: The Department invites the public to submit comments in paper or electronic form. Comments may be mailed to Karen A. Rose, Department of Commerce, National Telecommunications and Information Administration, Room 4701 HCHB, 1401 Constitution Avenue, NW., Washington, DC 20230. Paper submissions should include a diskette in ASCII, WordPerfect (please specify version) or Microsoft Word (please specify version) format. Diskettes should be labeled with the name and organizational affiliation of the filer, and the name and version of the word processing program used to create the document. In the alternative, comments may be submitted electronically to the following electronic mail address <usdomain@ntia.doc.gov>. Comments submitted via electronic mail should also be submitted in one or more of the formats specified above.

FOR FURTHER INFORMATION CONTACT: Karen A. Rose, Office of International Affairs, NTIA, telephone: 202-482-1866, electronic mail: <krose@ntia.doc.gov>; or Jeffrey E.M. Joyner, Esq., Office of Chief Counsel, NTIA, telephone: 202-482-1816, or electronic mail: <jjoyner@ntia.doc.gov>.

Authority: 15 U.S.C. 1512; 47 U.S.C. 902(b)(2)(H); 47 U.S.C. 902(b)(2)(I); 47 U.S.C. 902(b)(2)(M); 47 U.S.C. 904(c)(1).

SUPPLEMENTARY INFORMATION: The .us domain is the country code top level domain (“ccTLD”) of the Internet domain name system (“DNS”) that corresponds to the United States. Network Solutions, Inc., is responsible for the administration of the .us top level domain (“usTLD”) under its Cooperative Agreement with the Department of Commerce. Network Solutions has subcontracted administration of the usTLD to the Information Sciences Institute of the University of Southern California (“USC/ISI” or the “usTLD Administrator”). Dr. Jon Postel established the original structure and administrative mechanisms of the usTLD in RFC 1480, entitled The US Domain. Currently, second-level domain space is designated for states and U.S. territories, and the usTLD space is further subdivided into localities. Individuals and organizations may request an exclusive delegation from the usTLD Administrator to provide a registry and registrar services for a particular locality or localities. Local governments and community-based organizations typically use the usTLD, although some commercial names have been assigned. (Current usTLD policy requires prospective subdomain managers to submit written authorization from the relevant local public authority for the delegation.) Where registration for a locality has not been delegated, the usTLD Administrator itself provides necessary registry and registrar services. The usTLD is a widely distributed registry, currently with over 8000 subdomain delegations to over 800 individuals and entities, who maintain a registry and provide registration services for commercial, educational, and governmental entities. This distributed registration model affords scalable registration services and opportunities for commercial entities to provide name registration services. Nevertheless, because of the relative lack of public awareness about the availability of usTLD domain names and its deeply hierarchical and somewhat cumbersome structure, the usTLD has not attracted a high level of domain name registration activity and remains under-populated in comparison with other ccTLDs. It has been suggested for some time that the general absence of non-locality based registration space in the usTLD has contributed to overcrowding in the generic .com, .net, and .org top level domains (“gTLDs”).

On July 1, 1997, as part of the “Framework for Global Electronic Commerce,” President Clinton directed the Secretary of Commerce to privatize management of certain technical aspects of the DNS in a manner that increases competition and facilitates international participation in DNS management.² In response to this directive, the Department of Commerce, through NTIA, published a request for comment on a “green paper” entitled “Improvement of Technical Management of Internet Names and Addresses.” ³ NTIA subsequently issued a statement of policy entitled “Management of Internet Names and Addresses” setting forth the Administration's policy regarding privatization of certain technical aspects of the domain name system.⁴ As part of both the proposal and the final statement of policy, the Department noted its commitment to further explore and seek public input, through a separate request for comment, about the evolution of the usTLD space.

² See “A Framework for Global Electronic Commerce” (July 1, 1997) (available at <http://www.ecommerce.gov/framewrk.htm>).

³ See “Improvement of Technical Management of Internet Names and Addresses,” Proposed Rule and Request for Public Comment, National Telecommunications and Information Administration, Department of Commerce, 63 FR 8825 (Feb. 20, 1998) (available at <http://www.ntia.doc.gov/ntiahome/domainname/domainname130.htm>).

⁴ See “Management of Internet Names and Addresses,” Statement of Policy, National Telecommunications and Information Administration, Department of Commerce, 63 FR 31741 (June 10, 1998) (available at <http://www.ntia.doc.gov/ntiahome/domainname/domainhome.htm>). The Department of Commerce entered into a memorandum of understanding with the Internet Corporation for Assigned Names and Numbers (ICANN) on November 25, 1998, in which the parties agreed to collaborate on a transition mechanism to privatize technical management of the domain name system.

On August 4, 1998, NTIA solicited comments addressing the future expansion and administration of the usTLD space.⁵ On March 9, 1999, NTIA hosted a public meeting regarding the future management and administration of the .us domain with approximately 60 participants, including the current usTLD Administrator, current .us registrars, educators, representatives of the technical, public interest and business communities, and federal, state and foreign government officials.⁶ NTIA also established an open electronic mailing list to facilitate further public discussions of the issues.⁷

⁵ See “Enhancement of the .us Domain Space,” Notice, Request for Comments, National Telecommunications and Information Administration, Department of Commerce, 63 FR 41547 (Aug. 4, 1998) (available at <http://www.ntia.doc.gov/ntiahome/domainname/usrfc/dotusrfc.htm>). The comment period was extended to October 5, 1998, to afford interested parties a full opportunity to address the issues raised in the request. See also “Extension of Comment Period,” National Telecommunications and Information Administration, Department of Commerce, 63 FR 45800 (Aug. 24, 1998) (available at <http://www.ntia.doc.gov/ntiahome/domainname/usrfc/dotusext.htm>).

⁶ See “Enhancement of the .us Domain Space, Notification of Public Meeting,” Notice, National Telecommunications and Information Administration, Department of Commerce, 64 FR 6633 (Feb. 10, 1999). The agenda for that meeting is available at <http://www.ntia.doc.gov//ntiahome/domainname/dotusagenda.htm>.

⁷ See “Enhancement of the .us Domain Space, Notification of Open Electronic Mailing List for Public Discussions Regarding the Future Management and Administration of the .us Domain Space,” Notice, National Telecommunications and Information Administration, Department of Commerce, 64 FR 26365 (May 14, 1999) (available at <http://www.ntia.doc.gov/ntiahome/domainname/usrfc/dotuslistfedreg51099.htm>).

In an effort to develop a more concrete framework for the procurement of usTLD administration services, NTIA has now prepared this Draft SOW for public comment, which may be incorporated in a request for proposal (“RFP”) for management and administration of the usTLD. The public is invited to comment on any aspect of the Draft SOW.

Questions for the Draft SOW

The public is invited to comment on any aspect of the Draft SOW including, but not limited to, the specific questions set forth below. When responding to specific questions, responses should cite the number(s) of the questions addressed, and the “section” of the Draft SOW to which the question(s) correspond. Please provide any references to support the responses submitted.

Section I.A

Question 1

Regardless of the naming structure or registration policies of the usTLD, several core registry functions need to be provided by the successful offeror responding to an RFP to administer the usTLD (“Awardee”). Does the list in Section I.A of the Draft SOW accurately reflect the full range of core registry functions? Should other/additional core functions be included?

Section I.B

Question 2

Are any particular technical specifications, software, or methods and procedures necessary to complete the tasks outlined? Are there other tasks that should be required as part of this section?

Section I.C

Question 3

While usTLD registration policies may change or be adjusted over time, the Draft SOW contemplates that the current usTLD locality-based structure will continue to be supported. What mechanisms should Awardee employ to provide outreach to and coordination among the current usTLD community? Is information dissemination through a website (as required in Section I.A. of the Draft SOW) sufficient?

Question 4

Are there any drawbacks or disadvantages to continuing the support for the current .us structure? If support for the existing usTLD structure, or portions of it, should be discontinued, please describe how any transition should take place.

Question 5

Regarding the requirement to investigate and report on possible structural, procedural, and policy improvements to the current usTLD structure, are there specific procedures or policy improvements that should be implemented by Awardee prior to completion of this study? Are there issues that need to be specifically addressed in the required study, such as “locality-squatting,” the role of state and local governments, or appropriate cost recovery mechanisms?

Question 6

In the SOW, the Department of Commerce contemplates directing the usTLD Administrator to suspend additional locality delegations and to provide registration services directly for all undelegated subdomains. The Draft SOW contemplates that this arrangement would continue until the required study is completed. This “status quo” period is intended to provide a stable environment in which to conduct the study. Is such delegation suspension during this time necessary? Is the requirement to provide direct registration services in the undelegated subdomains enough to ensure the continued availability of the usTLD during this period? Should delegation transfers also be suspended?

Question 7

Currently, the usTLD Administrator does not charge fees for its services. We contemplate that the Awardee would administer the existing locality-based usTLD structure under this same policy, pending completion of the study and the approval of any recommended cost recovery mechanism. Should the Awardee be allowed to establish a cost recovery mechanism for the existing usTLD space upon award? If so, on what basis should such fees be determined and how should such fees be phased in?

Section I.D

Question 8

Commenters have suggested that an expanded usTLD structure that allows direct registrations under the usTLD as well as under specified second level domains would be most attractive for prospective registrants. In this Draft SOW we provide a great deal of latitude to consider and propose expansion of the usTLD structure. Should the final SOW impose more specific requirements in this area? Should certain second-level domains in the usTLD be required or specified? If so, which ones and how should they be selected? Should a second level domain for the registration of domain names for personal, non-commercial use be created? Are there disadvantages to allowing second level domain registrations directly under .us? Would a system that both establishes specific second level domains and allows direct registration under .us be feasible or would a mixed approach cause confusion for users?

Question 9

The Draft SOW contemplates that the Awardee will follow ICANN adopted policies relating to open ccTLDs, unless otherwise directed by the Department of Commerce. NTIA believes that this will allow straightforward administration of the expanded usTLD, with little additional policy development required. To the extent that additional substantive policy is required, NTIA contemplates that it would work cooperatively with the Awardee to develop such policy. What are the advantages and disadvantages to such an approach? Should other approaches be considered? Please describe alternate approaches, and discuss their advantages and disadvantages.

Question 10

Under current usTLD policy, registrations in the usTLD must be hosted on computers in the United States (RFC 1480 Section 1.3). Should this requirement apply to the expanded usTLD structure? Should registrations in the usTLD be further restricted to individuals or entities “located in” or “with a connection to” the United States? If so, what are appropriate criteria for determining eligibility: valid street address in the United States; citizenship or residency in the United States; incorporation and/or establishment in the United States? How would such criteria be established and enforced? How would such requirements affect administration of the usTLD?

Question 11

The Draft SOW contemplates that registrations in the expanded usTLD would be performed by competitive registrars through a shared registration system. (Awardee will not be permitted to serve as a usTLD registrar, except with respect to registrations in the existing, locality-based usTLD space until the required study has been completed.) Under this system, who should be eligible to serve as usTLD registrars? ICANN has established accreditation procedures for registrars in the .com, .net and .org top level domains. Should all individuals and entities accredited by ICANN be eligible to register in the usTLD? If not, why not? What alternative process, procedures, criteria, or additional requirements should be used?

Question 12

What type of contractual arrangement and provisions should be required of usTLD registrars? Should usTLD registrars enter into an agreement similar to ICANN's Registrar Accreditation Agreement (see <http://www.icann.org/nsi/icann-raa-04nov99.htm>). How would the ICANN agreement need to be modified to fit the usTLD context? Is this a feasible approach? Are there any provisions of the ICANN agreement that should not be included in a usTLD accreditation agreement? If so, which provisions should not be included and why? Are there any provisions that should be added, and if so, why?

Question 13

Should the interface between Awardee's usTLD registry and the usTLD registrars be specified in the final SOW? If so, should the interface follow the specifications set forth in RFC 2832 (see <http://www.ietf.org/rfc/rfc2832.text?number=2832>), or should other/additional technical and/or functional specifications be used? What, if any, quality of service requirements should Awardee be expected to meet? If other/additional specifications should be used, what should these specifications be?

Question 14

It is likely that Awardee will want to license usTLD registrars to use its registry access software. Is Network Solutions' Registrar License Agreement (see http://www.icann.org/nsi/nsi-rla-28sept99.htm) a good model for such a license? If not, why not? What provisions of the NSI agreement should be deleted? What provisions should be added?

Section II

Question 15

On February 23, 2000, ICANN's Governmental Advisory Committee (“GAC”) adopted “Principles for the Delegation and Administration of Country Code Top Level Domains” (see <http://www.icann.org/gac/gac-cctldprinciples-23feb00.htm>). The document sets forth basic principles for the administration and management of ccTLDs, as well as a framework for the relationships among the relevant local governments in the context of a ccTLD, the ccTLD administrator, and ICANN. The Department of Commerce has endorsed and intends to implement the GAC Principles. Are there any provisions of the GAC Principles that should not be included in an agreement between Department of Commerce and the Awardee, or between the Awardee and ICANN? If so, which provisions should not be included and why? Are there any provisions that should be added, and if so, why?

Kathy D. Smith,
Chief Counsel.

Appendix A

I. Statement of Work

Considerable latitude exists for the submission of creative proposals responsive to this solicitation; however, each proposal must address lists of minimum services that are outlined below. These lists should not be viewed as exhaustive; as such, offerors are encouraged to suggest other services that they consider important to the efficient administration and management of the usTLD. The provision of services below may be accomplished through coordinating resources and services provided by others, but joint proposals should clearly indicate how the requirements of the Statement of Work will be fulfilled.

Proposals should describe the systems, software, hardware, facilities, infrastructure, and operation, for the following functions:

A. Core Registry Functions

• Operation and maintenance of the primary, authoritative server for the usTLD;

• Operation and/or administration of a constellation of secondary servers for the usTLD;

• Compilation, generation, and propagation of the usTLD zone file(s);

• Maintenance of an accurate and up-to-date registration (Whois) database for usTLD registrations;

• Maintenance of an accurate and up-to-date database of usTLD sub-delegation managers; and

• Promotion of and registration in the usTLD, including maintenance of a website with up-to-date policy and registration information for the usTLD domain.

B. Technical Enhancements to the Existing, Locality-Based usTLD

A number of technical enhancements to the usTLD system functions are required to make the system more robust and reliable. Because the usTLD has operated for the most part on a delegated basis for a number of years, the availability of centralized contact information for the usTLD has proven difficult to maintain. For example, the current usTLD Administrator advises but does not require that the administrator of a delegated subdomain operate a database of accurate and up-to-date registration information (“Whois”) service.

There is considerable latitude for suggesting enhancements to the existing, locality-based usTLD system, however, the following tasks must be incorporated into each proposal. Proposals should describe the systems, software, hardware, facilities, infrastructure, and operation, for completing the tasks as well as proposed methods for the collecting registration and delegation information:

• Development of a single database for up-to-date and verified contact information for all delegations made in the usTLD to locality-level and second level (where delegated) administrators, and for all sub-delegations made by such locality-level and second level administrators. Such databases should allow for multiple string and field searching through a free, public, web-based interface, and consist of at least the following elements:

The name of the delegation;

The IP address of the primary nameserver and secondary nameserver(s) for the delegation;

The corresponding names of those nameservers;

The date of delegation;

The name and postal address of the delegated manager;

The name, postal address, e-mail address, voice telephone number, and (where available) fax number of the technical contact for the delegated manager; and

The name, postal address, e-mail address, voice telephone number, and (where available) fax number of the administrative contact for the delegated manager.

• Development of an enhanced searchable Whois database that contains, or provides access to, all domain name registrations at the delegated and sub-delegated levels. Such Whois database should allow for multiple string and field searching through a free, public, web-based interface, and consist of at least the following elements:

—The name of the domain registered;

—The IP address of the primary nameserver and secondary nameserver(s) for the registered domain name;

—The corresponding names of those nameservers;

—The identity of the delegated manager under which the name is registered;

—The creation date of the registration;

—The name and postal address of the domain name holder;

—The name, postal address, e-mail address, voice telephone number, and (where available) fax number of the technical contact for the domain name holder; and

—The name, postal address, e-mail address, voice telephone number, and (where available) fax number of the administrative contact for the domain name holder.

• Modernization and automation of .us registry and registration operations, including the creation of an electronic database to store historical usTLD registration data.

C. Administration of the Existing, Locality-Based usTLD Structure

During previous consultations with the public on the administration of the usTLD, a considerable number of parties expressed a desire for the continued operation and support of the existing usTLD domain structure. Some also noted that enhanced coordination of the existing locality-based usTLD structure would make the space more easily accessible and increase communication and cooperation within the community of usTLD subdelegation managers. Some concerns have been expressed that more should be undertaken to ensure that the locality-based aspects of the usTLD are operating in the interest of the relevant local community.

Proposals should describe how the offeror will perform the following functions:

• Continue to provide service and support for existing delegees and registrants in the existing, locality-based usTLD structure under current practice, including policies set forth in RFC 1480 and other documented usTLD policies.

• Conduct an investigation and submit a report to the Department of Commerce, within 9 months of the award, evaluating the compliance of existing sub-domain managers with the requirements of RFC 1480 and other documented usTLD policies. Such report must recommend structural, procedural, and policy changes designed to enhance such compliance and increase the value of the locality-based structure to local communities. During this evaluation period, Awardee shall make no additional locality delegations unless otherwise directed by the Department of Commerce.

• Continue to provide direct registry and registrar services for all other undelegated third level locality sub-domains, including services for CO and CI, and undelegated special purpose domains (K12, CC, TEC, LIB, MUS, STATE, DST, COG and GEN).

D. Expansion of the .us Space

Many parties in previous consultations have suggested that the current usTLD space should be expanded by creating opportunities for registration directly at the second level and/or at the third level under specified second level domains. It has been suggested that this more “generic” space would greatly increase the attractiveness of the usTLD to potential registrants. Awardee will not be allowed to act as a registrar in the expanded usTLD space.

Proposals should describe how the offeror will perform the following functions:

• Develop and implement a new structure for the usTLD that enables the registration of domain names directly under the usTLD and/or under specified second level domains. The proposed expanded usTLD structure, including proposed administration procedures and registration policies, must be described. Awardee must agree to be bound by a Department of Commerce contract to follow ICANN adopted policies applicable to open ccTLDs unless otherwise directed by the Department of Commerce.

• Develop and implement a shared registration system whereby qualified competing registrars may register domain names for their customers in the expanded usTLD space. At a minimum, the system must allow an unlimited number of accredited/licensed registrars to register domain names in the expanded usTLD; provide equivalent access to the system for all accredited/licensed registrars to register domains and transfer domain name registrations among competing accredited/licensed registrars; update domain name registrations; and provide technical support for accredited/licensed registrars.

• Provide customer service and technical support to accredited/licensed usTLD registrars and registry support for the expanded usTLD space.

• Provide the core registry functions listed in Section A above.

• Require usTLD registrars to participate in an alternative dispute resolution procedure, consistent with United States law and international treaty obligations, to resolve cases of alleged cyber-squatting. Offerors are encouraged to consider how ICANN's uniform dispute resolution procedure (UDRP) might be implemented in the context of the usTLD.

• Develop an enhanced searchable Whois database that contains, or provides access to, all domain name registrations in the enhanced usTLD space. Such database must be accessible through any “universal Whois service” adopted by ICANN registrars and must accommodate multiple string and field searching through a free public, web based interface and consist of at least the following elements:

—The name of the usTLD domain registered;

—The IP address of the primary nameserver and secondary nameserver(s) for the registered usTLD domain name;

—The corresponding names of those nameservers;

—The identity of the usTLD registrar under which the name is registered;

—The creation date of the registration;

—The name and postal address of the usTLD domain name holder;

—The name, postal address, e-mail address, voice telephone number, and (where available) fax number of the technical contact for the usTLD domain name; and

—The name, postal address, e-mail address, voice telephone number, and (where available) fax number of the administrative contact for the usTLD domain name.

II. Methods and Procedures

On February 23, 2000, ICANN's Governmental Advisory Committee adopted “Principles for the Delegation and Administration of Country Code Top Level Domains” (see <http://www.icann.org/gac/gac-cctldprinciples-23feb00.htm>). The document, which enjoys the support of the Department of Commerce, sets forth basic principles for the administration and management of ccTLDs, as well as a framework for the relationship between the relevant local government in the context of a ccTLD, the ccTLD administrator, and ICANN. The Awardee will be required to abide by the principles and procedures set forth in the document, and enter into contractual arrangement consistent with the document, unless otherwise directed by the Department of Commerce not to follow specific provisions.

[FR Doc. 00-21338 Filed 8-21-00; 8:45 am]

BILLING CODE 3510-60-P